DEPARTMENT OF TRANSPORTATION

Federal Aviation Administration

14 CFR Part 71

[Docket No. FAA-2020-1014; Airspace Docket No. 20-ASW-7]

RIN 2120-AA66

Amendment of Class D and Class E Airspace; Farmington, NM

AGENCY: Federal Aviation Administration (FAA), DOT.

ACTION: Final rule.

SUMMARY: This action modifies the Class D airspace at Four Corners Regional Airport, Farmington, NM. This action also modifies the Class E airspace, designated as a surface area, to match the modified Class D dimensions. Additionally, this action modifies the Class E airspace extending upward from 700 feet above the surface. Further, this action removes the Class E airspace, extending upward from 1,200 feet above the surface. This action also removes the Four Corners Regional ILS Localizer and the Farmington VORTAC from the legal descriptions' text headers and airspace descriptions. Lastly, this action implements several administrative corrections to the Class D, Class E2, and Class E5 airspaces' legal descriptions.

DATES: Effective 0901 UTC, June 17, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Matthew Van Der Wal, Federal Aviation Administration, Western Service Center, Operations Support Group, 2200 S. 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the Class D and Class E airspace at Four Corners Regional Airport, Farmington, NM, to ensure the safety and management of Instrument Flight Rules (IFR) operations at the airport.

History

The FAA published a notice of proposed rulemaking in the Federal Register (85 FR 78811, December 7, 2020) for Docket No. FAA-2020-1014 to modify the Class D and Class E airspace at Four Corners Regional Airport, Farmington, NM. Interested parties were invited to participate in this rulemaking effort by submitting written comments on the proposal to the FAA. No comments were received.

Subsequent to the publication of the NPRM, the FAA discovered “The Proposal” section in SUPPLEMENTARY INFORMATION of the preamble for the NPRM contained incorrect verbiage. The section that discussed the Class E airspace designated as a surface area incorrectly stated “Within a 4.7-mile radius of Four Corners Regional Airport and within 1 mile each side of the Four Corners Regional ILS Localizer east course extending from the 4.7-mile radius to 5.6 miles east of the airport.”

However, the proposed regulatory text contained the correct verbiage which reads “That airspace extending upward from the surface within a 4.7-mile radius of the airport, and within 1.8 miles each side of the 086° bearing from the airport, extending from the 4.7-mile radius to 5.6 miles east of Four Corners Regional Airport.”

Class D, E2, and E5 airspace designations are published in paragraphs 5000, 6002, and 6005, respectively, of FAA Order 7400.11E, dated July 21, 2020, and effective September 15, 2020, which is incorporated by reference in 14 CFR 71.1. The Class D and Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to 14 CFR part 71 modifies the Class D airspace at Four Corners Regional Airport, Farmington, NM. To properly contain IFR departures flying toward or over rising terrain an area is added to the eastern boundary of the Class D airspace.

This action also modifies the Class E airspace, designated as a surface area, to be coincident with the new Class D dimensions.

Additionally, this action modifies the Class E airspace extending upward from 700 feet above the surface. This airspace is designed to contain IFR departures to 1,200 feet above the surface and IFR arrivals descending below 1,500 feet above the surface. The current configuration does not properly contain IFR aircraft performing instrument approaches to the airport. To properly contain IFR arrivals, the areas to the east and the west of the airport have been expanded.

This action also removes the Class E airspace extending upward from 1,200 feet above the surface. This area is wholly contained with the Denver en route airspace and duplication is not necessary.

Further, this action removes the Four Corners Regional ILS Localizer from the Class D and Class E2 text headers and airspace descriptions. The action also removes the Farmington VORTAC from the Class E5 airspace text header and airspace description. The navigational aids (NAVAIDs) are not needed to define the airspace. Removal of the NAVAIDs allows the airspace to be defined from a single reference point which simplifies how the airspace is described.

Lastly, this action implements several administrative corrections to the Class D, Class E2, and Class E5 airspaces' legal descriptions. This action removes the city name from the second line of Class D, Class E2, and Class E5 text headers. The legal descriptions for the Class D and Class E2 airspace contain the outdated term “Airport/Facility Directory.” this action updates the term to “Chart Supplement.” The airport's geographic coordinates in the Class D and Class E2 text headers do not match the FAA database; this action updates the geographic coordinates to “lat. 36°44′29″ N., long. 108°13′48″ W.”

FAA Order 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

ASW NM D Farmington, NM [Amended]

Four Corners Regional Airport, NM

(Lat. 36°44′29″ N, long. 108°13′48″ W)

That airspace extending upward from the surface to and including 8,000 feet MSL within a 4.7-mile radius of the airport, and within 1.8 miles each side of the 086° bearing from the airport, extending from the 4.7-mile radius to 5.6 miles east of Four Corners Regional Airport. This Class D airspace area is effective during the specific dates and times established in advance by a Notice to Airmen. The effective date and time will thereafter be continuously published in the Chart Supplement.

Paragraph 6002 Class E Airspace Designated as a Surface Area.

* * * * *

ASW NM E2 Farmington, NM [Amended]

Four Corners Regional Airport, NM

(Lat. 36°44′29″ N, long. 108°13′48″ W)

That airspace extending upward from the surface within a 4.7-mile radius of the airport, and within 1.8 miles each side of the 086° bearing from the airport, extending from the 4.7-mile radius to 5.6 miles east of Four Corners Regional Airport. This Class E airspace area is effective during the specific dates and times established in advance by a Notice to Airmen. The effective date and time will thereafter be continuously published in the Chart Supplement.

Paragraph 6005 Class E Airspace Areas Extending Upward From 700 Feet or More Above the Surface of the Earth.

* * * * *

ASW NM E5 Farmington, NM [Amended]

Four Corners Regional Airport, NM

(Lat. 36°44′29″ N, long. 108°13′48″ W)

That airspace extending upward from 700 feet above the surface within a 6.7-mile radius of the airport, and within 4 miles north and 8 miles south of the 088° bearing from the airport, extending from 4 miles east of the airport to 22.4 miles east of the airport, and within 4.2 miles each side of the 267° bearing from the airport, extending from the 6.7-mile radius to 12.5 miles west of Four Corners Regional Airport.

Issued in Seattle, Washington, on February 24, 2021.
B.G. Chew,
Acting Group Manager, Operations Support Group, Western Service Center.

[FR Doc. 2021-04212 Filed 3-5-21; 8:45 am]

BILLING CODE 4910-13-P